DEPARTMENT OF DEFENSE

Department of the Navy

[USN-2008-0020]

Privacy Act of 1974; System of Records

AGENCY: Department of the Navy, DoD.

ACTION: Notice to alter a system of records.

SUMMARY: The Department of the Navy proposes to alter a system of records notice in its existing inventory of records systems subject to the Privacy Act of 1974, (5 U.S.C. 552a), as amended. The alteration consists of deleting two routine uses (i.e., Departments of Transportation and Veterans Affairs) and clarifies the remaining routine use.

DATES: This proposed action will be effective without further notice on May 1, 2008 unless comments are received which result in a contrary determination.

ADDRESSES: Send comments to the Department of the Navy, PA/FOIA Policy Branch, Chief of Naval Operations (DNS-36), 2000 Navy Pentagon, Washington, DC 20350-2000.

FOR FURTHER INFORMATION CONTACT: Mrs. Doris Lama at (202) 685-6545.

SUPPLEMENTARY INFORMATION: The Department of the Navy's systems of records notices subject to the Privacy Act of 1974, (5 U.S.C. 552a), as amended, have been published in the Federal Register and are available from the address above.

The proposed system reports, as required by 5 U.S.C. 552a(r), of the Privacy Act of 1974, as amended, was submitted on March 21, 2008, to the House Committee on Government Reform, the Senate Committee on Homeland Security and Governmental Affairs, and the Office of Management and Budget (OMB) pursuant to paragraph 4c of Appendix I to OMB Circular No. A-130, `Federal Agency Responsibilities for Maintaining Records About Individuals,' dated February 8, 1996 (February 20, 1996, 61 FR 6427).

March 26, 2008.
L.M. Bynum,
Alternate, OSD Federal Register Liaison Officer, Department of Defense.

N01133-2

SYSTEM NAME:

Recruiting Enlisted Selection System (June 14, 2006, 71 FR 34326).

CHANGES:

* * * * *

SYSTEM LOCATION:

In first para, after “38054-5057” replace entry “and contractor operated facility” with “and Defense Information Systems Agency, 5450 Carlisle Pike, Mechanicsburg, PA 17050-0975.”

* * * * *

ROUTINE USES OF RECORDS MAINTAINED IN THE SYSTEM, INCLUDING CATEGORIES OF USERS AND THE PURPOSES OF SUCH USES:

Delete routine uses listed in paragraphs 2 and 3. At end of paragraph 3, add the following language to the routine use: “and the recruitment of merchant marine personnel.”

* * * * *

SAFEGUARDS:

At end of entry, add “The Social Security Number (SSN) is scrambled (form of encryption) to prevent unauthorized access.”

RETENTION AND DISPOSAL:

Delete “two” and replace with “three”.

* * * * *

N01133-2

SYSTEM NAME:

Recruiting Enlisted Selection System.

SYSTEM LOCATION:

Primary System: Headquarters, Navy Recruiting Command, 5722 Integrity Drive, Millington, TN 38054-5057 and Defense Information Systems Agency, 5450 Carlisle Pike, Mechanicsburg, PA 17050-0975.

Decentralized Segments—Navy Recruiting Area Commanders, Navy Recruiting District Headquarters, Navy Recruiting ‘A’ Stations, Navy Recruiting Branch Stations, and Military Entrance Processing Stations (MEPS).

CATEGORIES OF INDIVIDUALS COVERED BY THE SYSTEM:

Prospective applicants, delayed-entry personnel, applicants for regular and reserve enlisted programs, and any other individuals who have initiated correspondence pertaining to enlistment in the U.S. Navy.

CATEGORIES OF RECORDS IN THE SYSTEM:

Personal history, education, professional qualifications, mental aptitude, physical qualifications, character and interview appraisals, National Agency Checks and certifications, service performance and congressional or special interests.

AUTHORITY FOR MAINTENANCE OF THE SYSTEM:

10 U.S.C. 133, 275, 503, 504, 508, 510, 672, 1071-1087, 1168, 1169, 1475-1480, 1553, 5013; and E.O. 9397 (SSN).

PURPOSE(S):

To provide recruiters with information concerning personal history, education, professional qualifications, mental aptitude, and other individualized items which may influence the decision to select/non-select an individual for enlistment in the U.S. Navy.

To provide historical data for comparison of current applicants with those selected in the past.

To provide delayed entry personnel with training modules and allow DON officials to use the Navy Applicant Management Information System (NAMIS) to conduct surveys and administer on-line screening tool that identify whether the delayed entry personnel qualify for special operations programs and other high-priority programs.

ROUTINE USES OF RECORDS MAINTAINED IN THE SYSTEM, INCLUDING CATEGORIES OF USERS AND THE PURPOSES OF SUCH USES:

In addition to those disclosures generally permitted under 5 U.S.C. 552a(b) of the Privacy Act, these records or information contained therein may specifically be disclosed outside the DoD as a routine use pursuant to 5 U.S.C. 552a(b)(3) as follows:

To officials and employees of other departments and agencies of the Executive Branch of government, upon request, in the performance of their official duties related to the management of quality military recruitment and the recruitment of Merchant Marine personnel.

The DoD ‘Blanket Routine Uses’ that appear at the beginning of the Navy's compilation of systems notices also apply to this system.

POLICIES AND PRACTICES FOR STORING, RETRIEVING, ACCESSING, RETAINING, AND DISPOSING OF RECORDS IN THE SYSTEM:

STORAGE:

Automated and paper records.

RETRIEVABILITY:

Name, Social Security Number, User id and password.

SAFEGUARDS:

Password controlled system, file, and element access based on predefined need-to-know. Physical access to terminals, terminal rooms, buildings and activities' grounds are controlled by locked terminals and rooms, guards, personnel screening and visitor registers. The Social Security Number (SSN) is scrambled (form of encryption) to prevent unauthorized access.

RETENTION AND DISPOSAL:

Records are normally maintained for three years and then destroyed.

SYSTEM MANAGER(S) AND ADDRESS:

Commander, Navy Recruiting Command, 5722 Integrity Drive, Millington, TN 38054-5057.

NOTIFICATION PROCEDURE:

Individuals seeking to determine whether this system of records contains information about themselves should address written inquiries regarding active duty recruiting issues to the Commander, Navy Recruiting Command (ATTN: Privacy Act Coordinator), 5722 Integrity Drive, Millington, TN 38054-5057 or to the applicable Naval Recruiting District as listed under U.S. Government in white pages of telephone book.

Letter should contain full name, address, Social Security Number and signature.

RECORD ACCESS PROCEDURES:

Individuals seeking access to records about themselves contained in this system of records should address written inquiries regarding active duty recruiting issues to the Commander, Navy Recruiting Command (ATTN: Privacy Act Coordinator), 5722 Integrity Drive, Millington, TN 38054-5057 or to the applicable Naval Recruiting District as listed under U.S. Government in white pages of telephone book.

Letter should contain full name, address, Social Security Number and signature.

CONTESTING RECORD PROCEDURES:

The Navy's rules for accessing records, and for contesting contents and appealing initial agency determinations are published in Secretary of the Navy Instruction 5211.5; 32 CFR part 701; or may be obtained from the system manager.

RECORD SOURCE CATEGORIES:

Navy recruiting and reserve recruiting personnel and administrative staff; medical personnel conducting physical examinations and/or private physicians providing consultations or patient history; character and employer references; educational institutions, staff and faculty members; Selective Service Commission; local, state, and federal law enforcement agencies; prior or current military service records; Members of Congress.

Other officials and employees of the Department of the Navy, Department of Defense and components thereof, in the performance of their official duties and as specified by current instructions and regulations promulgated by competent authority.

EXEMPTIONS CLAIMED FOR THE SYSTEM:

Parts of this system may be exempt under the provisions of 5 U.S.C. 552a(k)(1), (k)(5), (k)(6), and (k)(7) as applicable.

An exemption rule for this system has been promulgated in accordance with the requirements of 5 U.S.C. 553(b)(1), (2), and (3), (c) and (e) and published in 32 CFR part 701, subpart G. For additional information contact the system manager.

[FR Doc. E8-6636 Filed 3-31-08; 8:45 am]

BILLING CODE 5001-06-P